DEPARTMENT OF COMMERCE

Economics and Statistics Administration

Performance Review Board Membership

AGENCY: Economics and Statistics Administration, Department of Commerce.

ACTION: Notice.

SUMMARY: In accordance with 5 U.S.C. 4314(c)(4), the Economics and Statistics Administration (ESA) announces the appointment of members who will serve on the ESA Performance Review Board (PRB). The purpose of the PRB is to provide fair and impartial review of senior executive service and scientific and professional performance appraisals, bonus recommendations, pay adjustments and Presidential Rank Award nominations. The term of each PRB member will expire on December 31, 2020.

DATES: The effective date of service of appointees to the ESA Performance Review Board is based upon publication of this notice.

SUPPLEMENTARY INFORMATION: The names and position titles of the members of the PRB are set forth below:

John M. Abowd, Associate Director for Research and Methodology, Census Bureau

Joanne Buenzli Crane, Chief Financial Officer, Census Bureau

Gregory Capella, Deputy Director, National Technical Information Service

Paul Farello, Associate Director for International Economics, Bureau of Economic Analysis (BEA)

Albert Fontenot, Jr., Associate Director for Decennial Census Programs, Census Bureau

Ron Jarmin, Deputy Director, Census Bureau

Enrique Lamas, Associate Director for Demographic Programs, Census Bureau

Brian Lenihan, Senior Advisor to the Chief of Staff, Office of the Secretary (OS)

Edith J. McCloud, Associate Director for Management, Minority Business Development Agency

Brian C. Moyer, Director, BEA

Timothy Olson, Associate Director for Field Operations, Census Bureau

Nick Orsini, Associate Director for Economic Programs, Census Bureau

Jeremy Pelter, Chief Financial Officer and Director for Administration, ESA

Joel D. Platt, Associate Director for Regional Economics, BEA

Joseph Semsar, Senior Advisor, ESA

Tyra Dent Smith, Deputy Director for Human Resources Management, OS

Kevin Smith, Associate Director for Information Technology and Chief Information Officer, Census Bureau

Erich Strassner, Associate Director for National Economic Accounts, BEA

Sarahelen Thompson, Deputy Director, BEA

David R. Ziaya, Chief Administrative Officer, Census Bureau

FOR FURTHER INFORMATION CONTACT: Latasha Ellis, Program Manager, Executive Resources Office, Human Resources Division, Census Bureau, 4600 Silver Hill Road, Washington, DC 20233, 301-763-3727.

Dated: September 6, 2018.
Brian C. Moyer,
Director, BEA, Chair, ESA Performance Review Board.

[FR Doc. 2018-19980 Filed 9-12-18; 8:45 am]

BILLING CODE 3510-BS-P